DEPARTMENT OF VETERANS AFFAIRS

[OMB Control No. 2900-New (DBQs—Group 1)]

Proposed Information Collection (Disability Benefits Questionnaires—Group 1) Activity: Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each revision, and allow 60 days for public comment in response to the notice. This notice solicits comments for information needed to obtain medical evidence to adjudicate a claim for disability benefits.

DATES: Written comments and recommendations on the proposed collection of information should be received on or before September 15, 2014.

ADDRESSES: Submit written comments on the collection of information through Federal Docket Management System (FDMS) at www.Regulations.gov or to Nancy J. Kessinger, Veterans Benefits Administration (20M33), Department of Veterans Affairs, 810 Vermont Avenue NW., Washington, DC 20420 or email to nancy.kessinger@va.gov. Please refer to “OMB Control No. 2900-New (DBQs—Group 1)” in any correspondence. During the comment period, comments may be viewed online through FDMS.

FOR FURTHER INFORMATION CONTACT: Nancy J. Kessinger at (202) 632-8924 or FAX (202) 632-8925.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Titles:

a. Hematologic and Lymphatic Conditions, Including Leukemia Disability Benefits Questionnaire, VA Form 21-0960B-2.

b. Amyotrophic Lateral Sclerosis (Lou Gehrig's Disease) Disability Benefits Questionnaire, VA Form 21-0960C-2.

c. Peripheral Nerve Conditions (Not Including Diabetic Sensory-Motor Peripheral Neuropathy) Disability Benefits Questionnaire, VA Form 21-0960C-10.

d. Persian Gulf and Afghanistan Infectious Diseases Disability Benefits Questionnaire, VA Form 21-0960I-1.

e. Tuberculosis Disability Benefits Questionnaire, VA Form 21-0960I-6.

f. Kidney Conditions (Nephrology) Disability Benefits Questionnaire, VA Form 21-0960J-1.

g. Male Reproductive Organ Conditions Disability Benefits Questionnaire, VA Form 21-0960J-2.

h. Prostate Cancer Disability Benefits Questionnaire, VA Form 21-0960J-3.

l. Eating Disorders Disability Benefits Questionnaire, VA Form 21-0960P-1.

m. Mental Disorders (other than PTSD and Eating Disorders) Disability Benefits Questionnaire, VA Form 21-0960P-2.

n. Review Post Traumatic Stress Disorder (PTSD) Disability Benefits Questionnaire, VA Form 21-0960P-3.

OMB Control Number: 2900-New (DBQs—Group 1).

Type of Review: Revised collection.

Abstract: Data collected on VA Form 21-0960 series will be used obtain information from claimants treating physician that is necessary to adjudicate a claim for disability benefits.

Affected Public: Individuals or households.

Estimated Annual Burden: 127,917 hours.

Estimated Average Burden per Respondent:

a. VA Form 21-0960B-2—15 minutes.

b. VA Form 21-0960C-2—30 minutes.

c. VA Form 21-0960C-10—45 minutes.

d. VA Form 21-0960I-1—15 minutes.

e. VA Form 21-0960I-6—30 minutes.

f. VA Form 21-0960J-1—30 minutes.

g. VA Form 21-0960J-2—15 minutes.

h. VA Form 21-0960J-3—15 minutes.

l. VA Form 21-0960P-1—15 minutes.

m. VA Form 21-0960P-2—30 minutes.

n. VA Form 21-0960P-3—30 minutes.

Frequency of Response: On occasion.

Estimated Number of Respondents: TOTAL: 307,000

a. VA Form 21-0960B-2—10,000.

b. VA Form 21-0960C-2—2,000.

c. VA Form 21-0960C-10—55,000.

d. VA Form 21-0960I-1—50,000.

e. VA Form 21-0960I-6—5,000.

f. VA Form 21-0960J-1—25,000.

g. VA Form 21-0960J-2—25,000.

h. VA Form 21-0960J-3—25,000.

i. VA Form 21-0960M-13—50,000.

j. VA Form 21-0960M-14—50,000.

k. VA Form 21-0960O-1—25,000.

l. VA Form 21-0960P-1—5,000.

m. VA Form 21-0960P-2—50,000.

n. VA Form 21-0960P-3—55,000.

Dated: July 11, 2014.
By direction of the Secretary.
Crystal Rennie,
VA Clearance Officer, Department of Veterans Affairs.

[FR Doc. 2014-16751 Filed 7-16-14; 8:45 am]

BILLING CODE 8320-01-P